DEPARTMENT OF HEALTH AND HUMAN SERVICES

Centers for Disease Control and Prevention

[30Day-18-0800]

Agency Forms Undergoing Paperwork Reduction Act Review

In accordance with the Paperwork Reduction Act of 1995, the Centers for Disease Control and Prevention (CDC) has submitted the information collection request titled Focus Group Testing to Effectively Plan and Tailor Cancer Prevention and Control Communication Campaigns to the Office of Management and Budget (OMB) for review and approval. CDC previously published a “Proposed Data Collection Submitted for Public Comment and Recommendations” notice on December 13, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Focus Group Testing to Effectively Plan and Tailor Cancer Prevention and Control Communication Campaigns—(OMB No. 0920-0800, exp. 12/31/2017)—Reinstatement without Change—National Center for Chronic Disease Prevention and Health Promotion (NCCDPHP), Centers for Disease Control and Prevention (CDC).

Background and Brief Description

CDC requests a reinstatement of the information collection with OMB Control Number 0920-0800. The mission of the CDC's Division of Cancer Prevention and Control (DCPC) is to reduce the burden of cancer in the United States through cancer prevention, reduction of risk, early detection, better treatment, and improved quality of life for cancer survivors. Toward this end, the DCPC supports the scientific development and implementation of various health communication campaigns with an emphasis on specific cancer burdens.

This process requires testing of messages, concepts, and materials prior to their final development and dissemination, as described in the second step of the health communication process. The health communication process is a scientific model developed by the U.S. Department of Health and Human Services' National Cancer Institute to guide sound campaign development. The communication literature supports various data collection methods, one of which is focus groups, to conduct credible formative, concept, message, and materials testing. The purpose of focus groups is to ensure that the public and other key audiences, like health professionals, clearly understand cancer-specific information and concepts, are motivated to take the desired action, and do not react negatively to the messages. CDC is currently approved to collect information needed to plan and tailor cancer communication campaigns (OMB No. 0920-0800, exp. 12/31/2017), and seeks OMB approval to reinstate this generic clearance.

Information collection will involve focus groups to assess numerous qualitative dimensions of cancer prevention and control messages including, but not limited to, cancer knowledge, attitudes, beliefs, behavioral intentions, information needs and sources, clinical practices (among healthcare providers), and compliance with recommended cancer screening. Insights gained from the focus groups will assist in the development and/or refinement of future campaign messages and materials. Respondents will include healthcare providers as well as members of the general public. Communication campaigns and messages will vary according to the type of cancer, the qualitative dimensions of the message described above, and the type of respondents.

DCPC plans to conduct or sponsor up to 80 focus groups per year over a three-year period. An average of 10 respondents will participate in each focus group discussion. DCPC has developed a set of example questions that can be used to develop a discussion guide for each focus group activity. The average burden for response for each focus group will be two hours. DCPC has also developed a set of example questions that can be tailored to screen for targeted groups of respondents. The average burden per response for screening and recruitment is three minutes. A separate information collection request will be submitted to OMB for approval of each focus group activity. The request will describe the purpose of the activity and include the customized information collection instruments.

OMB approval is requested for three years. There are no changes to information collection purpose or methodology. Annual estimated Burden Hours are 1,680. Participation is voluntary and there are no costs to respondents except their time.

Estimated Annualized Burden Hours
Type of respondent | Form name | Number of respondents | Number of responses per respondent | Average burden per response (in hr)
General Public | Screening Form | 960 | 1 | 3/60
General Public | Focus Group Guide | 480 | 1 | 2
Health Care Professionals | Screening Form | 640 | 1 | 3/60
Health Care Professionals | Focus Group Guide | 320 | 1 | 2

Jeffrey M. Zirger,
Acting Chief, Information Collection Review Office, Office of Scientific Integrity, Office of the Associate Director for Science, Office of the Director, Centers for Disease Control and Prevention.

[FR Doc. 2018-19013 Filed 8-30-18; 8:45 am]

BILLING CODE 4163-18-P